CONSUMER PRODUCT SAFETY COMMISSION

16 CFR Chapter II

[Docket No. CPSC-2015-0022]

Petition Requesting Rulemaking on Products Containing Organohalogen Flame Retardants; Notice of Opportunity for Oral Presentation of Comments

AGENCY: U.S. Consumer Product Safety Commission.

ACTION: Notice of opportunity to present oral comments remotely.

SUMMARY: The United States Consumer Product Safety Commission (“Commission” or “CPSC”) on October 26, 2015 published a notice announcing that, on December 9, 2015, there will be an opportunity for interested persons to present oral comments on a petition received for rulemaking under the Federal Hazardous Substances Act (“FHSA”) regarding additive organohalogen flame retardants. The Commission also will provide for presentations to be made remotely.

DATES: The meeting for interested persons to present oral comments on the petition will begin at 10 a.m. on December 9, 2015, at 4330 East West Highway, Bethesda, MD 20814. Requests to make oral presentations and the written text of any oral presentations must be received by the Office of the Secretary not later than 12 noon Eastern Standard Time (EST) on December 4, 2015.

ADDRESSES: You may submit comments, identified by Docket No. CPSC-2015-0022, by any of the following methods:

Electronic Submissions: Submit electronic comments to the Federal eRulemaking Portal at: http://www.regulations.gov. Follow the instructions for submitting comments. The Commission does not accept comments submitted by electronic mail (email), except through www.regulations.gov. The Commission encourages you to submit electronic comments by using the Federal eRulemaking Portal, as described above.

Written Submissions: Submit written submissions by mail/hand delivery/courier to: Office of the Secretary, Consumer Product Safety Commission, Room 820, 4330 East West Highway, Bethesda, MD 20814; telephone (301) 504-7923.

Instructions: All submissions received must include the agency name and docket number for this proposed rulemaking. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, and insert the docket number, CPSC-2015-0022, into the “Search” box, and follow the prompts. A copy of the petition is available at: http://www.regulations.gov, under Docket No. CPSC-2015-0022, Supporting and Related Materials.

FOR FURTHER INFORMATION CONTACT: Rockelle Hammond, Office of the Secretary, Consumer Product Safety Commission, 4330 East-West Highway, Bethesda, MD 20814; telephone (301) 504-7923.

SUPPLEMENTARY INFORMATION:

A. Background

On July 1, 2015, the Commission received a petition requesting that the Commission initiate rulemaking under the FHSA to declare several categories of products containing additive organohalogen flame retardants to be “banned hazardous substances.” The petition was filed by Earthjustice and the Consumer Federation of America, which are joined by American Academy of Pediatrics, American Medical Women's Association, Consumers Union, Green Science Policy Institute, International Association of Fire Fighters, Kids in Danger, Philip Landrigan, M.D., M.P.H., League of United Latin American Citizens, Learning Disabilities Association of America, and Worksafe.

B. Opportunity for Oral Presentation of Comments

The Commission is providing a forum for oral presentations concerning the petition regarding additive organohalogen flame retardants. See the information under the headings DATES and ADDRESSES at the beginning of this notice for information on making requests to give oral presentations at the meeting or remotely.

The Commission is also allowing remote participation. Participants may call into a conference line to make their presentations. The conference line number is 866-623-8636 and participant code is 4816474. Remote participants, as well as those presenting in person, must provide the written text of their comments in advance (see the information under the headings DATES and ADDRESSES at the beginning of this notice). Call-in participants should be prepared to provide their first name, last name and affiliation.

Participants should limit their presentations to approximately 10 minutes, exclusive of any periods of questioning by the Commissioners or CPSC staff. To prevent duplicative presentations, groups will be directed to designate a spokesperson. The Commission reserves the right to limit the time further for any presentation and impose restrictions to avoid excessive duplication of presentations.

Dated: December 1, 2015.
Todd A. Stevenson,
Secretary, U.S. Consumer Product Safety Commission.

[FR Doc. 2015-30694 Filed 12-4-15; 8:45 am]

BILLING CODE 6355-01-P.